DEPARTMENT OF AGRICULTURE

Forest Service

Kudzu Eradication Environmental Impact Statement—Shawnee National Forest

AGENCY: Forest Service, USDA.

ACTION: Notice of Intent to Prepare an Environmental Impact Statement.

SUMMARY: The Forest Service will prepare an Environmental Impact Statement (EIS) to analyze eradicaiton of Kudzu infestations on the Shawnee National Forest. The purposed action includes eradication of approximately 90 acres of known kudzu infestations and subsequently identified infestations on the Shawnee National Forest. The purpose and need for this proposal is to remove the kudzu threat to biodiversity on the Shawnee National Forest.

DATES: Comments concerning the proposed action and scope of the analysis should be received within 30 days of this notice to receive timely consideration in the Draft EIS. An open house is scheduled for August 23, 2001 (4:00 p.m. to 8:00 p.m.). The Draft EIS is anticipated to be filed and available for review by December, 2001. The Final EIS is anticipated to be filed by March 2002.

ADDRESSES: Mail written comments to: Tom Neal, Vienna Ranger District, P.O. Box 37, Vienna, IL 62995. Send electronic mail comments to: tneal@fs.fed.us with a subject line that reads “Kudzm Eradication EIS”. The open house will be at the Shawnee National Forest Supervisors Office, 50 Highway 145 South, Harrisburg, Illinois.

FOR FURTHER INFORMATION CONTACT: Tom Neal, EIS Team Leader, or Nicholas J. Giannettino, District Ranger, at the Vienna Ranger District, Address: P.O. Box 37, Vienna, IL. 62995; Telephone: (618-658-2111) Tom Neal may also be contacted by electronic mail at tneal@fs.fed.us.

SUPPLEMENTARY INFORMATION: The information presented in the notice is included to help the reviewer determine if they are interested in or potentially affected by this project. The information is this notice is summarized. Those who wish to comment on this project, or are otherwise interested in or potentially affected by it, are encouraged to review more detailed information available. Additional information may be obtained from the contacts listed in the preceding section of this notice or at the Shawnee National Forest's website http://www.fs.fed.us/r9/shawnee/.

Purpose of and Need for Action

Kudzu, Pueraria lobatas, is an invasive species that was introduced in the 1930's to help control soil erosion. Today, kudzu a federal noxious weed is a classic example of another well-intended introduction that has grown out of control. Kudzu kills, smothers, and suppressed other plants beneath its thickly tangled masses of leaves and vines. It girdles trees, breaks branches and even uproots entire trees through the sheer force of its weight. Kudzu forms extensive monotypical patches, alternating or eliminating native plant communities. Currently, there are six known areas of infestation of Kudzu on the Shawnee National Forest (Forest). Given the invasive nature of kudzu, additional infestations are likely to occur. The purpose and need for this proposal is to remove the kudzu threat to biodiversity on the Forest. This purpose and need is consistent with direction contained in the Shawnee National Forest Amended Land and Resource Management Plan (Forest Plan). This purpose and need is also responsive to other laws, regulations, and policies regarding noxious weeds.

Proposed Action

The proposed action is to eradicate known and subsequently discovered kudzu infestations on the Forest. The proposed action includes eradication of kudzu through application of herbicide at six known sites on the Forest, totaling approximately 90 acres. Herbicides to be used are Transline, Garlon 4, and Rodeo. Application procedures and rates will adhere to directions prescribed by the manufacturers. Kudzu stems extending into trees may be cut to facilitate herbicide application and reduce the quantity of herbicide being applied. Prescribed fire may be used to reduce the total volume of kudzu vines, facilitating herbicide application and reducing the quantity of herbicide being applied. Treatment will continue annually until kudzu is eradicated. Treatment will be monitored to ensure compliance with herbicide application directions and to access the effectiveness of kudzu eradication methods. All equipment used for treating kudzu will be cleaned prior to leaving the kudzu sites to limit the spread of the kudzu infestation. Kudzu sites may be closed to all wheeled vehicles to limit the possible spread of the kudzu plant. The proposed action also includes treatment of subsequent kudzu sites discovered on the Forest using the methods described above. Although there are no known kudzu infestations in Research Natural Areas on the Forest, if kudzu were found there, Forest Service Research would be involved to coordinate actions for kudzu eradication. Maps of the proposed action are available for viewing and photocopying at the Shawnee National Forest offices. Electronic viewing is also available on the Forest's website: www.fs.fed.us/r9/shawnee/.

Preliminary Issues

The following preliminary issues have been identified relating to the proposal: effects of kudzu on native plant communities, wildlife, and ecosystem diversity; and effects of herbicide on human health, native plant communities, wildlife, water, and fish.

Alternatives

In preparing the EIS, the Forest Service will consider a reasonable range of alternatives to the proposed action, including a “no action” alternative. The no action alternative will be the continuation of implementing the Forest Plan and all applicable laws, regulations, and Forest Orders. In the no action alternative, no kudzu would be treated allowing existing kudzu plants and any future kudzu plants to advance unrestrained onto adjacent National Forest Systems Lands, other public lands, or private lands. Based on the comments received on the proposal, other alternatives will be considered. Possible alternatives for kudzu eradication may include: various herbicides, mechanical treatments, prescribed fire, biological treatments, silvicultural treatments, and grazing. Suggestions for alternatives that meet the purpose and need are welcome.

Public Participation

Public participation will be an integral part of this project, beginning with the scoping process, which starts with publication of this notice. During the scoping process, the Forest Service will be seeking information, comments, and assistance from Federal, State, County, and local agencies, individuals, and organizations that may be interested in or affected by this project action. The scoping process will include: (1) Identification of potential issues, (2) identification of issues to be analyzed in depth, (3) elimination of insignificant issues or those which have been covered by a previous environmental review, (4) exploring additional alternatives, (5) identifying potential environmental effects, and (6) determining potential cooperating agencies. In addition to this notice, scoping comments will be solicited through a scoping package that will be sent to the project mailing list and those who otherwise request it; notice in the Southern Illinoisan newspaper, Carbondale IL, and an open house.

Comments concerning the proposed action and scope of the analysis should be received within 30 days of this notice to receive timely consideration in the Draft EIS. We may also meet with the public as needed. The Draft EIS is anticipated to be available by December 2001. The comment period on the Draft EIS will be 45 days from notice in the Federal Register.

Reviewer's Obligation To Comment

The Forest Service believes, at this early stage, it is important to give reviewers notice of several court rulings related to public participation in the environmental review process. First, reviewers of Draft EISs must structure their participation in the environmental review of the proposal, so that it is meaningful and alerts an agency to the reviewer's position and contentions. Vermont Yankee Nuclear Power Corp. v. NRDC, 435 U.S. 519, 553, (1978). Also, environmental objections that could have been raised at the Draft EIS stage, but were not raised until the completion of the final EIS, may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period on the Draft EIS, so that substantive comments and objections are made available to the Forest Service at a time when they can be meaningfully considered and responded to in the Final EIS. To assist the Forest Service in identifying and considering issues and concerns of the proposed action, comments on the Draft EIS should be as specific as possible. It is also helpful if comments refer to specific pages or chapters of the draft statement. Comments may address the adequacy of the Draft EIS, or the merits of the alternatives formulated and discussed in the statement. Reviewers may wish to refer to the Council on Environmental Quality Regulations for implementing the procedural provisions of the National Environmental Policy Act in 40 CFR 1503.3, in addressing these points.

Lead and Cooperating Agencies

The Forest Service is the lead agency. The Forest will work in cooperation with the Illinois Department of Natural Resources in developing and evaluating issues and alternatives for the eradication of kudzu.

Responsible Officials

Forrest L. Starkey, Forest Supervisor, Shawnee National Forest, is the responsible official for making a project-level decision on this project. If an amendment to the Forest Plan is necessary to implement the project-level decision, the Forest Supervisor will be responsible for that portion of the decision.

Decision Space

Decision-making for this project is limited to the National Forest System lands administered by the Shawnee National Forest. Decision-making will be based on information in the Draft and Final EIS and supporting record, including consideration of all public comments. Decision-making will be limited to specific activities relating to the proposed action and its purpose and need. No decisions will be made for actions that are not responsive to the expressed purpose and need. The primary decision to be made will be whether or not to implement the proposed actions or an action alternative that responds to the purpose and need. If the proposed action or an action alternative is selected for implementation. The decision may include minor modifications or additional measures are appropriate as necessary. Documentation and rationale of the included modifications and additional measures would be made in a Record of Decision. If no action is selected for implementation, the Responsible Official may either discontinue the planning effort or document the decision in a Record of Decision.

Dated: August 3, 2001.
Forrest L. Starkey,
Forest Supervisor.

[FR Doc. 01-19959 Filed 8-8-01; 8:45 am]

BILLING CODE 3401-11-M